DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Transformation Accountability Reporting System—(OMB No. 0930-0285)—Revision

The Transformation Accountability (TRAC) Reporting System is a real-time, performance management system that captures information on the substance abuse treatment and mental health services delivered in the United States. A wide range of client and program information is captured through TRAC for approximately 700 grantees. This request includes an extension of the currently approved data collection effort.

This information collection will allow SAMHSA to continue to meet the Government Performance and Results Act (GPRA) of 1993 reporting requirements that quantify the effects and accomplishments of its programs, which are consistent with OMB guidance. In order to carry out section 1105(a)(29) of GPRA, SAMHSA is required to prepare a performance plan for its major programs of activity. This plan must:

• Establish performance goals to define the level of performance to be achieved by a program activity;

• Express such goals in an objective, quantifiable, and measurable form;

• Briefly describe the operational processes, skills and technology, and the human, capital, information, or other resources required to meet the performance goals;

• Establish performance indicators to be used in measuring or assessing the relevant outputs, service levels, and outcomes of each program activity;

• Provide a basis for comparing actual program results with the established performance goals; and

• Describe the means to be used to verify and validate measured values.

In addition, this data collection supports the GPRA Modernization Act of 2010 which requires overall organization management to improve agency performance and achieve the mission and goals of the agency through the use of strategic and performance planning, measurement, analysis, regular assessment of progress, and use of performance information to improve the results achieved. Specifically, this data collection will allow CMHS to have the capacity to report on a consistent set of performance measures across its various grant programs that conduct each of these activities. SAMHSA's legislative mandate is to increase access to high quality substance abuse and mental health prevention and treatment services and to improve outcomes. Its mission is to improve the quality and availability of treatment and prevention services for substance abuse and mental illness. To support this mission, the Agency's overarching goals are:

• Accountability—Establish systems to ensure program performance measurement and accountability

• Capacity—Build, maintain, and enhance mental health and substance abuse infrastructure and capacity

• Effectiveness—Enable all communities and providers to deliver effective services

Each of these key goals complements SAMHSA's legislative mandate. All of SAMHSA's programs and activities are geared toward the achievement of these goals and performance monitoring is a collaborative and cooperative aspect of this process. SAMHSA will strive to coordinate the development of these goals with other ongoing performance measurement development activities.

The total annual burden estimate is shown below:

Estimates of Annualized Hour Burden
[CMHS client outcome measures for discretionary programs]
Type of response | Number of respondents | Responses per respondent | Total responses | Hours per response | Total hour burden
Client-level baseline interview | 35,845 | 1 | 35,854 | 0.45 | 16,130
Client-level 6-month reassessment interview ¹ | 23,658 | 1 | 23,658 | 0.45 | 10,646
Client-level discharge interview ² | 10,753 | 1 | 10,753 | 0.45 | 4,838
PBHCI- Section H Form Only Baseline | 14,000 | 1 | 14,000 | .08 | 1,120
PBHCI- Section H Form Only Follow-Up ³ | 9,240 | 1 | 9,240 | .08 | 739
PBHCI—Section H Form Only Discharge ⁴ | 4,200 | 1 | 4,200 | .08 | 336
HIV Continuum of Care Specific Form Baseline | 200 | 1 | 200 | 0.33 | 66
HIV Continuum of Care Follow-Up ⁵ | 148 | 1 | 148 | 0.33 | 49
HIV Continuum of Care Discharge ⁶ | 104 | 1 | 104 | 0.33 | 34
Infrastructure development, prevention, and mental health promotion quarterly record abstraction ⁷ | 982 | 4.0 | 3928 | 2.0 | 7,856
Total | 36,827 |  | 102,139 |  | 48,814
Note: Numbers may not add to the totals due to rounding and some individual participants completing more than one form.
¹ It is estimated that 66% of baseline clients will complete this interview.
² It is estimated that 30% of baseline clients will complete this interview.
³ It is estimated that 74% of baseline clients will complete this interview.
⁴ It is estimated that 52% of baseline clients will complete this interview.
⁵ It is estimated that 52% of baseline clients will complete this interview.
⁶ It is estimated that 30% of baseline clients will complete this interview.
⁷ Grantees are required to report this information as a condition of their grant. No attrition is estimated.

Send comments to Summer King, SAMHSA Reports Clearance Officer, Room 2-1057, One Choke Cherry Road, Rockville, MD 20857 or email a copy at summer.king@samhsa.hhs.gov. Written comments should be received by November 23, 2015

Summer King,
Statistician.

[FR Doc. 2015-24023 Filed 9-21-15; 8:45 am]

BILLING CODE 4162-20-P